DEPARTMENT OF TRANSPORTATION

Maritime Administration

U.S. Merchant Marine Academy Board of Visitors; Public Meeting

AGENCY: Maritime Administration (MARAD), Department of Transportation (DOT).

ACTION: Notice of public meeting.

SUMMARY: MARAD announces a meeting of the U.S. Merchant Marine Academy (USMMA) Board of Visitors (BOV).

DATES: December 14, 2022, from 9 a.m. to 11 a.m. EST.

Requests to submit written materials to be reviewed during the meeting must be received no later than December 2, 2022. Requests for accommodations for a disability must be received by December 7, 2022. USMMA will post virtual meeting access details no later than December 9, 2022, via the Academy website and social media channels.

ADDRESSES: The meeting will be held through a virtual forum. Virtual meeting access information will be available on the USMMA BOV web page no later than December 9, 2022. General information about the committee is available on the USMMA BOV web page at https://www.usmma.edu/about/leadership/board-visitors.

FOR FURTHER INFORMATION CONTACT: The BOV's Designated Federal Officer and Point of Contact, Mary Grice, 202-366-4264 or mary.grice@dot.gov.

SUPPLEMENTARY INFORMATION:

I. Background

The USMMA BOV is a Federal Advisory Committee originally established as a Congressional Board by section 51312 of title 46, United States Code “to provide independent advice and recommendations on matters relating to the United States Merchant Marine Academy.” The Board was originally chartered under the Federal Advisory Committee Act (FACA) on October 24, 2017.

II. Agenda

The meeting agenda will cover, but is not limited to, the following proposed topics:

1. Board maintenance items (elections, minutes, reports, etc.);

2. Update on Sea Year and EMBARC programs;

3. Update on the six priorities from the USMMA Strategic Plan (including infrastructure and modernization progress, Sexual Assault Prevention and Response program status);

4. Update on the Class of 2026; and

5. Update on the state of the Regiment of Midshipmen.

III. Public Participation

This meeting is open to the public and will be held through a virtual forum. DOT and MARAD are committed to providing equal access to this meeting for all participants. If you need alternative formats or services because of a disability, such as sign language, interpretation, or other ancillary aids, please contact the person listed in the FOR FURTHER INFORMATION CONTACT section.

Any member of the public is permitted to file a written statement with the BOV. Written statements should be sent to the Designated Federal Officer listed in the FOR FURTHER INFORMATION CONTACT section no later than December 2, 2022.

Only written statements will be considered by the BOV; no member of the public will be allowed to present questions or speak during the meeting unless requested to do so by a member of the Board.

The meeting notice must be placed in the Federal Register no later than 15 days prior to the scheduled date of the meeting, as required by 41 CFR part 102-3.150.

(Authority: 46 U.S.C. 51312; 5 U.S.C. 552b; 5 U.S.C. App. 2; 41 CFR parts 102-3.140 through 102-3.165.)

By order of the Maritime Administrator.
T. Mitchell Hudson, Jr.,
Secretary, Maritime Administration.

[FR Doc. 2022-25440 Filed 11-21-22; 8:45 am]

BILLING CODE 4910-81-P